DEPARTMENT OF VETERANS AFFAIRS

Advisory Committee on Minority Veterans, Notice of Meeting

The Department of Veterans Affairs (VA) gives notice under the Federal Advisory Committee Act, 5 U.S.C. App. 2., that the Advisory Committee on Minority Veterans will virtually meet on December 8-December 10, 2020 via Adobe Connect. The meeting sessions will begin and end as follows:

Dates | Times
December 8, 2020 | 11:00 a.m.-3:00 p.m. —Eastern Standard Time (EST).
December 9, 2020 | 11:00 a.m.-3:00 p.m. EST.
December 10, 2020 | 11:00 a.m.-3:00 p.m. EST.

This meeting sessions are open to the public. To access the meeting, please use the Adobe Connect link: http://va-eerc-ees.adobeconnect.com/acmv/ or via phone VANTS: 1-800-767-1750, Participant Code: 09533#.

The purpose of the Committee is to advise the Secretary on the administration of VA benefits and services to minority Veterans; assess the needs of minority Veterans; and evaluate whether VA compensation, medical and rehabilitation services, outreach, and other programs are meeting those needs. The Committee makes recommendations to the Secretary regarding such activities.

On December 8, the Committee will receive briefings and updates from the Center for Minority Veterans, National Cemetery Administration, Veterans Experience Office, National Center for Veterans Analysis, Office of Tribal Government Relations, and Veterans Benefits Administration. On December 9, the Committee will receive briefings and updates from the Board of Veterans Appeals, Veterans Health Administration, Center for Women Veterans, Mental Health, Office of Telehealth, Office of Rural Health and Office of Health Equity. On December 10, the Committee will receive a briefing and update on Office of Diversity & Inclusion, Women's Health Services, Million Veteran Program, Ex-Officio(s) Update and hold an exit briefing with VBA, VHA and NCA. The Committee will receive public comments from 1:10 p.m. to 1:25 p.m. After the Leadership Exit Briefing, the Committee will conduct an after-action review.

Individuals who speak are invited to submit a 1-2-page summary of their comments no later than November 30, 2020 for inclusion in the official meeting record. Members of the public may also submit written statements for the Committee's review to Ms. Juanita Mullen, at Juanita.Mullen@va.gov. Any member of the public seeking additional information should contact Ms. Mullen or Mr. Dwayne Campbell 202-461-6191.

Dated: November 10, 2020.
Jelessa M. Burney,
Federal Advisory Committee Management Officer.

[FR Doc. 2020-25245 Filed 11-13-20; 8:45 am]

BILLING CODE P